GENERAL SERVICES ADMINISTRATION

[OMB Control No. 3090-0235; Docket No. 2025-0001; Sequence No. 16]

Information Collection; General Services Administration Acquisition Regulation; Federal Supply Schedule Pricing Disclosures and Sales Reporting

AGENCY: Office of Acquisition Policy, General Services Administration (GSA).

ACTION: Notice; request for comments.

SUMMARY: Under the provisions of the Paperwork Reduction Act, the Regulatory Secretariat Division is submitting a request to the Office of Management and Budget (OMB) to review and approve an extension of a previously approved information collection requirement regarding OMB Control No. 3090-0235, Federal Supply Schedule Pricing Disclosures and Sales Reporting.

DATES: Submit comments on or before: December 1, 2025.

ADDRESSES: Submit comments identified by “Information Collection 3090-0235, Federal Supply Schedule Pricing Disclosures and Sales Reporting” via http://www.regulations.gov. Submit comments via the Federal eRulemaking portal by searching the OMB control number. Select the link “Comment” that corresponds with information collection 3090-0235. Follow the instructions provided on the screen. Please include your name, company name (if any), and “Information Collection 3090-0235, Federal Supply Schedule Pricing Disclosures and Sales Reporting” on your attached document. If your comment cannot be submitted using regulations.gov, call or email the points of contact in the FOR FURTHER INFORMATION CONTACT section of this document for alternate instructions.

Instructions: Please submit comments only and cite information collection “3090-0235, Federal Supply Schedule Pricing Disclosures and Sales Reporting” in all correspondence related to this collection. All comments received will be posted without change to regulations.gov, including any personal and/or business confidential information provided. To confirm receipt of your comment(s), please check regulations.gov, approximately two-to-three days after submission to verify posting.

FOR FURTHER INFORMATION CONTACT: Mr. Thomas O'Linn, Procurement Analyst, General Services Acquisition Policy Division, GSA, 202-445-0390 or email gsarpolicy@gsa.gov.

SUPPLEMENTARY INFORMATION:

A. Purpose

This information collection is for GSA Federal Supply Schedules (FSS) offerors and contractors subject to certain pricing disclosures and sales reporting requirements (i.e., referred to as CSP/PRC requirements). CSP/PRC requirements are found within the basic version of General Services Administration Acquisition Regulation (GSAR) clause 552.238-80, Industrial Funding Fee and Sales Reporting and the basic version of GSAR clause 552.238-81, Price Reductions; GSAR section 515.408(b) and (c); GSAR clause 552.238-83 Examination of Records by GSA; GSAR clause 552.238-85, Contractor's Billing Responsibilities; and GSAR clause 552.238-120, Economic Price Adjustment—Federal Supply Schedule Contracts. This information collection does not apply to GSA FSS offerors and contractors subject to Transactional Data Reporting (TDR) requirements. The burden associated with TDR requirements is covered under information collection OMB control number 3090-0306, Transactional Data Reporting.

B. Annual Reporting Burden

The total estimated annual public cost burden and total estimated annual public burden hours for this information collection is estimated to be:

Year 1 | Year 2 | Year 3
$84,629,455 935,622. | $0 Cost 0 hours. | $0 Cost. 0 hours.

These estimates are calculated by adding up the total estimated annual burden cost/hour for each of the GSAR clauses covered by this information collection. Additionally, these estimates take into account the following impacts:

1. During the renewal period of this information collection FSS offerors and contractors will no longer be subject to the aforementioned CSP/PRC requirements and instead will be covered by TDR requirements. The transition to TDR is based on Class Deviation CD-2025-13, Revised Transactional Data Reporting (TDR) Requirements for the Federal Supply Schedule (FSS) Program, which was issued on June 26, 2025. The class deviation (CD) amends the GSAR to remove CSP/PRC and make TDR requirements mandatory for the FSS program. As a result of this CD-

a. The FSS solicitation will be amended to remove CSP/PRC requirements.

b. Existing FSS contractors will need to transition to TDR. GSA anticipates the transition to be completed by the end of Year 1 of this renewal period.

2. Alternate I of GSAR clause 552.216-70, Economic Price Adjustment—FSS Multiple Award Schedule Contract, was replaced by GSAR clause 552.238-120, Economic Price Adjustment—Federal Supply Schedule Contracts. This new clause is less burdensome than the prior clause and provides more flexibility.

C. Public Comments

Public comments are particularly invited on: Whether this collection of information is necessary and whether it will have practical utility; whether our estimate of the public burden of this collection of information is accurate and based on valid assumptions and methodology; ways to enhance the quality, utility, and clarity of the information to be collected.

Obtaining Copies of Proposals: Requesters may obtain a copy of the information collection documents from the GSA Regulatory Secretariat Division, by calling 202-501-4755 or emailing GSARegSec@gsa.gov. Please cite “OMB Control No. 3090-0235, Federal Supply Schedule Pricing Disclosures and Sales Reporting”, in all correspondence.

Jeffrey A. Koses,
Senior Procurement Executive, Office of Acquisition Policy, Office of Government-wide Policy.

[FR Doc. 2025-19118 Filed 9-30-25; 8:45 am]

BILLING CODE 6820-61-P